FEDERAL COMMUNICATIONS COMMISSION

[EB Docket No. 16-330; Report No. 3052]

Petition for Reconsideration of a Policy Statement

AGENCY: Federal Communications Commission.

ACTION: Petition for reconsideration; request for comments.

SUMMARY: A petition has been filed jointly by CTIA—The Wireless Association; National Cable & Telecommunications Association; COMPTEL; and United States Telecom Association (collectively, the “Associations”) seeking reconsideration of the Commission's policy statement in this proceeding. The Commission seeks comments on the petition for reconsideration.

DATES: Submit comments on or before November 9, 2016. Replies must be filed on or before November 16, 2016.

ADDRESSES: You may submit comments, identified by EB Docket No. 16-330, by any of the following methods:

• Federal eRulemaking Portal: http://www.regulations.gov. Follow the instructions for submitting comments.

• Federal Communications Commission's Web site: http://fjallfoss.fcc.gov/ecfs2/. Follow the instructions for submitting comments.

• Mail: Federal Communications Commission, 445 12th Street SW., Washington, DC 20554.

• People with Disabilities: Contact the FCC to request reasonable accommodations (accessible format documents, sign language interpreters, CART, etc.) by email: FCC504@fcc.gov or phone: 202-418-0530 or TTY: 202-418-0432.

FOR FURTHER INFORMATION CONTACT: Gregory Haledjian, (202) 418-7440

SUPPLEMENTARY INFORMATION: On February 3, 2015, the Commission issued a policy statement (5 U.S.C. 553(b)(A)) in this proceeding. The Associations jointly filed a petition for reconsideration on March 6, 2015. The Commission issued a Public Notice (EB Docket No. 16-330, Report No. 3052) announcing the filing of the petition for reconsideration and seeking public comment. The full text of the Petition is available for viewing and copying at the FCC Reference Information Center, 445 12th Street, SW., Room CY-A257, Washington, DC 20554 or may be accessed online via the Commission's Electronic Comment Filing System at http://apps.fcc.gov/ecfs/.

Federal Communications Commission.
Marlene H. Dortch,
Secretary.

[FR Doc. 2016-25814 Filed 10-25-16; 8:45 am]

BILLING CODE 6712-01-P